DEPARTMENT OF THE INTERIOR

National Park Service

Notice of Inventory Completion for Native American Human Remains and Associated Funerary Objects in the Possession of Agate Fossil Beds National Monument, National Park Service, Harrison, NE and Scotts Bluff National Monument, National Park Service, Gering, NE

AGENCY: National Park Service.

ACTION: Notice.

Notice is hereby given in accordance with provisions of the Native American Graves Protection and Repatriation Act (NAGPRA), 43 CFR 10.9, of the completion of an inventory of human remains and associated funerary objects in the possession of Agate Fossil Beds National Monument, Harrison, Nebraska, and Scotts Bluff National Monument, Gering, Nebraska.

A detailed assessment of the human remains and associated funerary objects was made by National Park Service professional staff in consultation with representatives of the Arapahoe Tribe of the Wind River Reservation, Wyoming; Assiniboine and Sioux Tribes of the Fort Peck Indian Reservation, Montana; Cheyenne River Sioux Tribe of the Cheyenne River Reservation, South Dakota; Crow Creek Sioux Tribe of the Crow Creek Reservation, South Dakota; Crow Tribe of Montana; Lower Brule Sioux Tribe of the Lower Brule Reservation, South Dakota; Northern Cheyenne Tribe of the Northern Cheyenne Indian Reservation, Montana; Ponca Tribe of Indians of Oklahoma; Ponca Tribe of Nebraska; Rosebud Sioux Tribe of the Rosebud Indian Reservation, South Dakota; Santee Sioux Tribe of the Santee Reservation of Nebraska; Shoshone Tribe of the Wind River Reservation, Wyoming; Shoshone-Paiute Tribes of the Duck Valley Reservation, Nevada; and the Three Affiliated Tribes of the Fort Berthold Reservation, North Dakota. Several other tribes, including the Apache Tribe of Oklahoma; Blackfeet Tribe of the Blackfeet Indian Reservation of Montana; Cheyenne-Arapaho Tribes of Oklahoma; Comanche Indian Tribe, Oklahoma; Fort Sill Apache Tribe of Oklahoma; Jicarilla Apache Tribe of the Jicarilla Apache Indian Reservation, New Mexico; Kiowa Indian Tribe of Oklahoma; Mescalero Apache Tribe of the Mescalero Reservation, New Mexico; Northwestern Band of Shoshoni Nation of Utah (Washakie); Oglala Sioux Tribe of the Pine Ridge Reservation, South Dakota; Omaha Tribe of Nebraska; Pawnee Indian Tribe of Oklahoma; Shoshone-Bannock Tribes of the Fort Hall Reservation of Idaho; Spirit Lake Tribe, North Dakota; Standing Rock Sioux Tribe of North & South Dakota; and the Yankton Sioux Tribe of South Dakota were also invited to consult, but did not participate to the extent of the other Indian tribes.

In 1968, human remains representing eight individuals were donated to Agate Fossil Beds National Monument by Margaret Cook. No known individuals were identified. The 11 associated funerary objects consist of one soil burial matrix containing numerous glass beads, six shell buttons and button fragments, one brass bell, one collection of cloth and leather fragments, one collection of plant seeds, and one deer bone.

Collection records indicate that all eight sets of human remains were recovered from the Nebraska panhandle region. One individual is documented as coming from a highway gravel borrow pit north of Mitchell, Nebraska, in 1955. The exact provenience of the other seven individuals is not known. It is assumed that all eight individuals were excavated by or given to Margaret's husband Harold Cook, a paleontologist, geologist, and archeologist who operated a museum in the Cook home. The remains of two individuals are known to have been given to Cook around 1921 by a local physician from Harrison, Nebraska.

Between 1935 and 1945, human remains representing four individuals were donated to Scotts Bluff National Monument by Edgar McKinley, F.J. Strasbaugh, A.C.G. Kaempher, and R.E. Sweet. Scotts Bluff National Monument possesses an additional set of human remains representing seven individuals. No known individuals were identified. The five associated funerary objects consist of two bone awl tips, one jasper rock flake, and two animal bones.

Collection records indicate that all eleven sets of human remains, now held at Scotts Bluff National Monument, were recovered from the Nebraska panhandle region. The four donated sets of human remains came from generally known localities: the McKinley farm, a gravel pit along the North Platte River near Gering Nebraska, the Greenwood Ranch, and Luckenbill Place near Bridgeport, Nebraska. The exact provenience of the other seven individuals and precise date of acquisition is not known.

Through the application of physical anthropological examinations, conducted by Peer Moore-Jansen of Wichita State University in March 1995, and the presence of diagnostic associated funerary objects, 18 of the individuals describe above were identified as Native American. The physical anthropological examinations also determined that one of the individuals described above is likely Native American. Oral history evidence, presented by representatives of the consulting tribes listed above, identified a cultural affiliation to all of the above described human remains held by Agate Fossil Beds National Monument and Scotts Bluff National Monument. This oral history evidence addressed the issue of a “shared group identity” of ancient peoples of the Nebraska panhandle region and their relationship to modern tribal groups recognized by the Unites States Federal government.

Utilizing expert opinion, collection records, geographical, physical anthropological, and oral tradition evidence, it has been determined that the Arapahoe Tribe of the Wind River Reservation, Assiniboine and Sioux Tribes of the Fort Peck Indian Reservation, Cheyenne River Sioux Tribe of the Cheyenne River Reservation, Crow Creek Sioux Tribe of the Crow Creek Reservation, Crow Tribe of Montana, Lower Brule Sioux Tribe of the Lower Brule Reservation, Northern Cheyenne Tribe of the Northern Cheyenne Indian Reservation, Ponca Tribe of Indians of Oklahoma, Ponca Tribe of Nebraska, Rosebud Sioux Tribe of the Rosebud Indian Reservation, Santee Sioux Tribe of the Santee Reservation, Shoshone Tribe of the Wind River Reservation, Shoshone-Paiute Tribes of the Duck Valley Reservation, and the Three Affiliated Tribes of the Fort Berthold Reservation, as well as the Flandreau Santee Sioux Tribe, Oglala Sioux Tribe of the Pine Ridge Reservation and the Yankton Sioux Tribe are culturally affiliated with the human remains and associated funerary objects described above.

Based on the above mentioned information, officials of the National Park Service have determined that, pursuant to 43 CFR 10.2(d)(1), the human remains listed above represent the physical remains of 19 individuals of Native American ancestry. Officials of the National Park Service have also determined that, pursuant to 43 CFR 10.2(d)(2), the 16 associated funerary objects listed above are reasonably believed to have been placed with or near individual human remains at the time of death or later as part of the death rite or ceremony. Lastly, officials of the National Park Service have determined that, pursuant to 43 CFR 10.2 (e), there is a relationship of shared group identity that can be reasonably traced between these Native American human remains and associated funerary objects and the Arapahoe Tribe of the Wind River Reservation, Wyoming; Assiniboine and Sioux Tribes of the Fort Peck Indian Reservation, Montana; Cheyenne River Sioux Tribe of the Cheyenne River Reservation, South Dakota; Crow Creek Sioux Tribe of the Crow Creek Reservation, South Dakota; Crow Tribe of Montana; Flandreau Santee Sioux Tribe of South Dakota; Lower Brule Sioux Tribe of the Lower Brule Reservation, South Dakota; Northern Cheyenne Tribe of the Northern Cheyenne Indian Reservation, Montana; Oglala Sioux Tribe of the Pine Ridge Reservation, South Dakota; Ponca Tribe of Indians of Oklahoma; Ponca Tribe of Nebraska; Rosebud Sioux Tribe of the Rosebud Indian Reservation, South Dakota; Santee Sioux Tribe of the Santee Reservation of Nebraska; Shoshone Tribe of the Wind River Reservation, Wyoming; Shoshone-Paiute Tribes of the Duck Valley Reservation, Nevada; and the Three Affiliated Tribes of the Fort Berthold Reservation, North Dakota; and Yankton Sioux Tribe of South Dakota.

This notice has been sent to officials of the Apache Tribe of Oklahoma; Arapahoe Tribe of the Wind River Reservation, Wyoming; Assiniboine and Sioux Tribes of the Fort Peck Indian Reservation, Montana; Blackfeet Tribe of the Blackfeet Indian Reservation of Montana; Cheyenne Arapaho Tribes of Oklahoma; Cheyenne River Sioux Tribe of the Cheyenne River Reservation, South Dakota; Comanche Indian Tribe, Oklahoma; Crow Creek Sioux Tribe of the Crow Creek Reservation, South Dakota; Crow Tribe of Montana; Flandreau Santee Sioux Tribe of South Dakota; Fort Sill Apache Tribe of Oklahoma; Jicarilla Apache Tribe of the Jicarilla Apache Indian Reservation, New Mexico; Kiowa Indian Tribe of Oklahoma; Lower Brule Sioux Tribe of the Lower Brule Reservation, South Dakota; Mescalero Apache Tribe of the Mescalero Reservation, New Mexico; Northern Cheyenne Tribe of the Northern Cheyenne Indian Reservation, Montana; Northwestern Band of Shoshoni Nation of Utah (Washakie); Oglala Sioux Tribe of the Pine Ridge Reservation, South Dakota; Omaha Tribe of Nebraska; Pawnee Indian Tribe of Oklahoma; Ponca Tribe of Indians of Oklahoma; Ponca Tribe of Nebraska; Rosebud Sioux Tribe of the Rosebud Indian Reservation, South Dakota; Santee Sioux Tribe of the Santee Reservation of Nebraska; Shoshone Tribe of the Wind River Reservation, Wyoming; Shoshone-Bannock Tribes of the Fort Hall Reservation of Idaho; Shoshone-Paiute Tribes of the Duck Valley Reservation, Nevada; Spirit Lake Tribe, North Dakota; Standing Rock Sioux Tribe of North & South Dakota; Three Affiliated Tribes of the Fort Berthold Reservation, North Dakota; and the Yankton Sioux Tribe of South Dakota. Representatives of any other Indian tribe that believes itself to be culturally affiliated with these human remains and associated funerary objects, should contact Superintendent Ruthann Knudson, Agate Fossil Beds National Monument, 301 River Road, Harrison Nebraska 69347-2734; telephone: (308) 668-2211, fax: (308) 668-2318, ruthann—knudson@nps.gov, before June 22, 2000. Repatriation of these human remains and cultural items to the Arapahoe Tribe of the Wind River Reservation, Wyoming; Assiniboine and Sioux Tribes of the Fort Peck Indian Reservation, Montana; Cheyenne River Sioux Tribe of the Cheyenne River Reservation, South Dakota; Crow Creek Sioux Tribe of the Crow Creek Reservation, South Dakota; Crow Tribe of Montana; Flandreau Santee Sioux Tribe of South Dakota; Lower Brule Sioux Tribe of the Lower Brule Reservation, South Dakota; Northern Cheyenne Tribe of the Northern Cheyenne Indian Reservation, Montana; Oglala Sioux Tribe of the Pine Ridge Reservation, South Dakota; Ponca Tribe of Indians of Oklahoma; Ponca Tribe of Nebraska; Rosebud Sioux Tribe of the Rosebud Indian Reservation, South Dakota; Santee Sioux Tribe of the Santee Reservation of Nebraska; Shoshone Tribe of the Wind River Reservation, Wyoming; Shoshone-Paiute Tribes of the Duck Valley Reservation, Nevada; Three Affiliated Tribes of the Fort Berthold Reservation, North Dakota; and Yankton Sioux Tribe of South Dakota may begin after the above date if no additional claimants come forward.

Dated: April 3, 2000.
Francis P. McManamon,
Departmental Consulting Archeologist, Manager, Archeology and Ethnography Program.

[FR Doc. 00-12852 Filed 5-22-00; 8:45 am]

BILLING CODE 4310-70-F